CONSUMER PRODUCT SAFETY COMMISSION

Commission Agenda and Priorities; Notice of Hearing

AGENCY: U.S. Consumer Product Safety Commission.

ACTION: Notice of public hearing.

SUMMARY: The U.S. Consumer Product Safety Commission (“Commission”) will conduct a public hearing to receive views from all interested parties about its agenda and priorities for fiscal year 2013, which begins on October 1, 2012. Participation by members of the public is invited. Written comments and oral presentations concerning the Commission's agenda and priorities for fiscal year 2013 will become part of the public record.

DATES: The hearing will begin at 10 a.m. on July 20, 2011. Requests to make oral presentations and the written text of any oral presentations must be received by the Office of the Secretary not later than 5 p.m. Eastern Standard Time (“E.S.T.”) on July 15, 2011.

ADDRESSES: The hearing will be in the Hearing Room, 4th Floor of the Bethesda Towers Building, 4330 East West Highway, Bethesda, Maryland 20814. Requests to make oral presentations and texts of oral presentations should be captioned “Agenda and Priorities FY 2013” and sent by electronic mail (“e-mail”) to cpsc-os@cpsc.gov, or mailed or delivered to the Office of the Secretary, U.S. Consumer Product Safety Commission, 4330 East West Highway, Bethesda, Maryland 20814, no later than 5 p.m. E.S.T. on July 15, 2011.

FOR FURTHER INFORMATION CONTACT: For information about the hearing or to request an opportunity to make an oral presentation, please send an e-mail, call, or write Todd A. Stevenson, Office of the Secretary, Consumer Product Safety Commission, 4330 East West Highway, Bethesda, Maryland 20814; e-mail cpsc-os@cpsc.gov; telephone (301) 504-7923; facsimile (301) 504-0127. An electronic copy of the CPSC's budget request for fiscal year 2012 can be found at http://www.cpsc.gov/cpscpub/pubs/reports/2012plan.pdf.

SUPPLEMENTARY INFORMATION: Section 4(j) of the Consumer Product Safety Act (“CPSA”) (15 U.S.C. 2053(j)) requires the Commission to establish an agenda for action under the laws it administers and, to the extent feasible, to select priorities for action at least 30 days before the beginning of each fiscal year. Section 4(j) of the CPSA provides further that before establishing its agenda and priorities, the Commission conduct a public hearing and provide an opportunity for the submission of comments.

Persons who desire to make oral presentations at the hearing on July 20, 2011, should send an e-mail, call, or write Todd A. Stevenson, Office of the Secretary, U.S. Consumer Product Safety Commission, 4330 East West Highway, Bethesda, Maryland 20814, e-mail cpsc-os@cpsc.gov, telephone (301) 504-7923, facsimile (301) 504-0127 not later than 5 p.m. E.S.T. on July 15, 2011. Presentations should be limited to approximately 10 minutes.

Persons desiring to make presentations must submit the text of their presentations to the Office of the Secretary not later than 5 p.m. E.S.T. on July 15, 2011. The Commission reserves the right to impose further time limitations on all presentations and further restrictions to avoid duplication of presentations. The hearing will begin at 10 a.m. on July 20, 2011, and will conclude the same day.

Dated: June 24, 2011.
Todd A. Stevenson,
Secretary, Consumer Product Safety Commission.

[FR Doc. 2011-16235 Filed 6-28-11; 8:45 am]

BILLING CODE 6355-01-P